DEPARTMENT OF STATE

[Public Notice 3943]

Determination Under Section 508 of the Kenneth M. Ludden Foreign Operations, Export Financing and Related Programs Appropriations Act, 2002 (Pub. L. 107-115) With Respect to the Gambia

Pursuant to the authority vested in me as Deputy Secretary of State, including by section 508 of the Kenneth M. Ludden Foreign Operations, Export Financing and Related Programs Appropriations Act, 2002 (Pub. L. 107-115), Executive Order 1318 of March 31, 1999, and State Department Delegation of Authority No. 245 of April 23, 2001, I hereby determine that, subsequent to the termination of assistance to the Government of The Gambia after that country's July 22, 1994 military coup, a democratically elected Government has taken office in The Gambia.

This Determination shall be reported to the Congress and published in the Federal Register.

Dated: March 5, 2002.
Richard D. Armitage,
Deputy Secretary of State, Department of State.

[FR Doc. 02-6073 Filed 3-12-02; 8:45 am]

BILLING CODE 4710-10-P